SECURITIES AND EXCHANGE COMMISSION

Issuer Delisting; Notice of Application To Withdraw From Listing and Registration on the American Stock Exchange LLC (Capital Pacific Holdings, Inc., $.10 par value) File No. 1-09911

October 24, 2003.

Capital Pacific Holdings, Inc., a Delaware corporation (“Issuer”), has filed an application with the Securities and Exchange Commission (“Commission”), pursuant to Section 12(d) of the Securities Exchange Act of 1934 (“Act”) ¹ and Rule 12d2-2(d) thereunder,² to withdraw its Common Stock, $.10 par value (“Security”), from listing and registration on the American Stock Exchange LLC (“Amex” or “Exchange”).

¹ 15 U.S.C. 78l(d).

² 17 CFR 240.12d2-2(d).

The Issuer stated in its application that it has met the requirements of Amex Rule 18 by complying with all applicable laws in the State of Delaware, in which it is incorporated, and with the Amex's rules governing an issuer's voluntary withdrawal of a security from listing and registration.

The Board of Directors (“Board”) of the Issuer approved a resolution on September 23, 2003 to withdraw the Issuer's Security from listing on the Amex. The Board states that it considered the following reasons in its decision to withdraw the Security from listing and registration on the Amex: the additional financial burden of complying with the Sarbanes-Oxley Act and related regulations, listing standards and accounting pronouncements. In particular, the Board was informed by management that the additional financial burden of complying with the Sarbanes-Oxley Act and related regulations, listing standards and accounting pronouncements exceeds an average of approximately $300,000 per annum. In addition, the Board concluded that the Issuer or its shareholders do not benefit materially from listing the Issuer's Security on the Exchange for various reasons, including the small public float, lack of analyst coverage and low trading volume. The Issuer states that it is seeking to identify a market marker to facilitate trading in the Security notwithstanding the deregistration.

The Issuer's application relates solely to the withdrawal of the Securities from listing on the Amex and from registration under Section 12(b) of the Act ³ and shall not affect its obligation to be registered under Section 12(g) of the Act.⁴

³ 15 U.S.C. 78l(b).

⁴ 15 U.S.C. 78l(g).

Any interested person may, on or before November 14, 2003, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-27341 Filed 10-29-03; 8:45 am]

BILLING CODE 8010-01-P